SMALL BUSINESS ADMINISTRATION

[Declaration of Disaster #3549]

State of Delaware; Amendment #2

In accordance with a notice received from the Department of Homeland Security—Federal Emergency Management Agency, effective October 23, 2003, the above numbered declaration is hereby amended to extend the deadline for filing applications for physical damages as a result of this disaster to November 24, 2003.

All other information remains the same, i.e., the deadline for filing applications for economic injury is June 21, 2004.

(Catalog of Federal Domestic Assistance Program Nos. 59002 and 59008).
Dated: November 12, 2003.
Herbert L. Mitchell,
Associate Administrator for Disaster Assistance.

[FR Doc. 03-28713 Filed 11-17-03; 8:45 am]

BILLING CODE 8025-01-P